DEPARTMENT OF HEALTH AND HUMAN SERVICES

Administration for Children and Families

Office of the Assistant Secretary; Statement of Delegation of Authority

Notice is hereby given that on January 27, 2016, the Assistant Secretary for Children and Families re-delegated certain responsibilities under the Trafficking Victims Protection Act of 2000 (TVPA), as amended, to the Director of the Office on Trafficking in Persons (OTIP), an office within the Immediate Office of the Assistant Secretary. In addition, the Assistant Secretary delegated to OTIP other authorities under sections 107(b) and 107(f) of the TVPA. By virtue of these re-delegations, certain previously delegated authorities to the Office of Refugee Resettlement (ORR) were rescinded.

By virtue of the authority vested in the Assistant Secretary by the Secretary of Health and Human Services on April 30, 2004, I rescinded the following delegation to the Director of ORR made on January 11, 2008 (73 FR 5198) and re-delegated the responsibilities to the Director of OTIP, with the authority to re-delegate:

Authority to conduct public awareness and information activities under section 106(b) of the TVPA (22 U.S.C. 7104(b)).

By virtue of the authority vested in the Assistant Secretary by the Secretary of Health and Human Services on March 28, 2001 (66 FR 18642), I rescinded the following delegation to the Director of ORR made on April 10, 2001 (66 FR 19960-61) and re-delegated the responsibilities to the Director of OTIP, with authority to re-delegate:

Authority to conduct certification activities under section 107(b)(1) of the TVPA, (22 U.S.C. 7105(b)(1)). In exercising this authority, personnel in OTIP will consult with the Secretary of Homeland Security.

By virtue of the authority vested in the Assistant Secretary by the Secretary of Health and Human Services on March 23, 2009 (74 FR 14564), I rescinded the following delegations to the Director of ORR made on April 10, 2009 (74 FR 19233) and re-delegated the responsibilities to the Director of OTIP, with authority to re-delegate:

Authority under section 107(b)(1) of the TVPA (22 U.S.C. 7105(b)(1)) to provide interim assistance to children who may have been subjected to a severe form of trafficking and to issue eligibility letters and conduct related activities. In issuing eligibility letters, personnel in the Administration for Children and Families will consult with the Attorney General, the Secretary of Homeland Security, and nongovernmental organizations with expertise on victims of trafficking.

Authority to train Federal staff and State and local officials to improve identification and protection for victims of a severe form of trafficking under section 107(c)(4) of the TVPA (22 U.S.C. 7105(c)(4)).

These delegations of authority supersede any prior delegations or re-delegations on these subjects to the extent such delegations or re-delegations may be inconsistent herewith.

I hereby affirm and ratify any actions taken by the Director of Refugee Resettlement and the OTIP Director, or his or her subordinates, which involved the exercise of authorities prior to the effective date of these January 27, 2016, delegations.

These authorities shall be exercised under the Department's policy on regulations and the existing delegation of authority to approve and issue regulations.

These delegations shall be exercised under financial and administrative requirements applicable to these Administration for Children and Families authorities.

The delegations listed were effective January 27, 2016.

Dated: May 12, 2016.
Mark H. Greenberg,
Acting Assistant Secretary for Children and Families.

[FR Doc. 2016-11731 Filed 5-17-16; 8:45 am]

BILLING CODE 4184-34-P